FEDERAL RETIREMENT THRIFT INVESTMENT BOARD

Sunshine Act; Notice of Meeting

Time and Date: 9 a.m. (EDT), July 17, 2006.

Place: 4th Floor Conference Room, 1250 H Street, NW., Washington, DC.

Status: Open.

Matters to be Considered: 1. Approval of the minutes of the June 20, 2006 Board member meeting.

2. Thrift Savings Plan activity report by the Executive Director.

3. Quarterly Investment Policy and Vendor Financial Reports.

FOR FURTHER INFORMATION CONTACT: Thomas J. Trabucco, Director, Office of External Affairs, (202) 942-1640.

Dated: July 10, 2006.
Thomas K. Emswiler,
Secretary to the Board, Federal Retirement Thrift Investment Board.

[FR Doc. 06-6186 Filed 7-10-06; 11:16 am]

BILLING CODE 6760-01-P